ENVIRONMENTAL PROTECTION AGENCY

40 CFR Parts 52 and 81

[EPA-R05-OAR-2016-0593; FRL-9969-69-Region 5]

Air Plan Approval; Illinois; Redesignation of the Chicago and Granite City Areas to Attainment of the 2008 Lead Standard

AGENCY: Environmental Protection Agency (EPA).

ACTION: Direct final rule.

SUMMARY: The Environmental Protection Agency (EPA) is approving the Illinois Environmental Protection Agency's (Illinois EPA's) request to redesignate the Chicago and Granite City nonattainment areas (hereafter also referred to as the “areas”) to attainment for the 2008 national ambient air quality standards (NAAQS or standards) for lead, also identified as Pb. EPA is also approving, as revisions to the Illinois state implementation plan (SIP): The state's plan for maintaining the 2008 lead NAAQS in the areas for a period of ten years following these redesignations; the emissions inventories for the areas; and rules applying emission limits and other control requirements to lead sources in the areas. EPA is taking these actions in accordance with applicable regulations and guidance that address implementation of the 2008 lead NAAQS.

DATES: This direct final rule will be effective December 18, 2017, unless EPA receives adverse comments by November 17, 2017. If adverse comments are received, EPA will publish a timely withdrawal of the direct final rule in the Federal Register informing the public that the rule will not take effect.

ADDRESSES: Submit your comments, identified by Docket ID No. EPA-R05-OAR-2016-0593 at https://www.regulations.gov or via email to aburano.douglas@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit https://www2.epa.gov/dockets/commenting-epa-dockets.

FOR FURTHER INFORMATION CONTACT: Eric Svingen, Environmental Engineer, Attainment Planning and Maintenance Section, Air Programs Branch (AR-18J), Environmental Protection Agency, Region 5, 77 West Jackson Boulevard, Chicago, Illinois 60604, (312) 353-4489, svingen.eric@epa.gov.

SUPPLEMENTARY INFORMATION: Throughout this document whenever “we,” “us,” or “our” is used, we mean EPA. This supplementary information section is arranged as follows:

I. What actions is EPA taking?

II. What is the background for these actions?

III. What are the criteria for redesignation to attainment?

IV. What is EPA's analysis of the state's request?

V. What are the effects of EPA's actions?

VI. Incorporation by Reference

VII. Statutory and Executive Order Reviews

I. What actions is EPA taking?

EPA is approving Illinois' request to redesignate the Chicago and Granite City areas from nonattainment to attainment for the 2008 lead NAAQS under section 107(d)(3)(E) of the Clean Air Act (CAA) and taking several related actions. These actions include approval of, as revisions to the Illinois SIP, Illinois': Lead maintenance plan for the areas under section 175A; 2012 lead emission inventories under section 172(c)(3); and rules applying emission limits and other control requirements to lead sources in the Chicago and Granite City areas.

EPA's analysis for taking these actions is discussed in Section IV below.

II. What is the background for these actions?

Lead is a metal found naturally in the environment as well as in manufactured products. Lead may have serious public health effects depending on the level of exposure. Lead can adversely affect the nervous system, kidney function, immune system, reproductive system, and cardiovascular system. Infants and young children are especially sensitive to even low levels of lead, which may contribute to behavioral problems, learning deficits, and lowered IQ. The major sources of lead for air emissions have historically been from fuels used in on-road motor vehicles (such as cars and trucks) and industrial sources. As a result of EPA's regulatory efforts to remove lead from on-road motor vehicle gasoline, emissions of lead from the transportation sector dramatically declined by 95 percent between 1980 and 1999, and levels of lead in the air decreased by 94 percent between 1980 and 1999.

Today, the highest levels of lead in the air are usually found near lead smelters. The major sources of lead emissions to the air today are ore and metals processing and piston-engine aircraft operating on leaded aviation gasoline.

On November 12, 2008 (73 FR 66964), EPA established the 2008 primary and secondary lead NAAQS at 0.15 micrograms per cubic meter (μg/m³) based on a maximum arithmetic 3-month mean concentration for a 3-year period. See 40 CFR 50.16.

On November 22, 2010 (75 FR 71033), EPA published its initial air quality designations and classifications for the 2008 lead NAAQS based upon air quality monitoring data for calendar years 2007-2009. These designations became effective on December 31, 2010. In this initial round, the Granite City area was designated nonattainment for the 2008 lead NAAQS. On November 22, 2011 (76 FR 72097), EPA published a second and final round of designations for the 2008 lead NAAQS based upon air quality monitoring data for calendar years 2008-2010. These designations became effective on December 31, 2011. In this second round, the Chicago area was designated nonattainment for the 2008 lead NAAQS. See 40 CFR 81.314.

On January 9, 2014, Illinois EPA submitted to EPA an attainment demonstration for the 2008 lead NAAQS. This submission included a request to incorporate into the Illinois SIP new rules at Title 35 Illinois Administrative Code (Ill. Adm. Code) Part 226. On June 17, 2014, Illinois EPA supplemented this submission with additional information regarding the state rulemaking process.

On September 22, 2016, Illinois EPA requested that the Granite City and Chicago lead nonattainment areas be redesignated to attainment for the 2008 lead NAAQS and submitted the maintenance plan for the areas as a proposed revision to the Illinois SIP. In this September 22, 2016, submission, Illinois EPA withdrew most parts of the previous two submissions, but did not withdraw the request that EPA approve, as a revision to the Illinois SIP, the requirements at 35 Ill. Adm. Code Part 226 to limit lead emissions in the areas. Illinois similarly did not withdraw certain attachments and support documents, such as emissions inventories and modeling data, that are relevant to this request. On February 16, 2017, Illinois EPA clarified certain details regarding the maintenance plan components of its September 22, 2016 submission.

III. What are the criteria for redesignation to attainment?

The CAA sets forth the requirements for redesignating a nonattainment area to attainment. Specifically, section 107(d)(3)(E) of the CAA allows for redesignation provided that: (1) The Administrator determines that the area has attained the applicable NAAQS based on current air quality data; (2) the Administrator has fully approved an applicable SIP for the area under section 110(k) of the CAA; (3) the Administrator determines that the improvement in air quality is due to permanent and enforceable emission reductions resulting from implementation of the applicable SIP, Federal air pollution control regulations, or other permanent and enforceable emission reductions; (4) the Administrator has fully approved a maintenance plan for the area meeting the requirements of section 175A of the CAA; and (5) the state containing the area has met all requirements applicable to the area for purposes of redesignation under section 110 and the requirements for nonattainment areas under part D of the CAA.

IV. What is EPA's analysis of the state's request?

The bases for EPA's actions follow.

A. The Areas Have Attained the 2008 Lead NAAQS (Section 107(d)(3)(E)(i))

In accordance with section 179(c) of the CAA, 42 U.S.C. 7509(c), EPA is determining that the Chicago and Granite City areas have attained the 2008 lead NAAQS. This determination is based upon complete, quality-assured, and certified ambient air monitoring data that show the areas have monitored attainment of the lead NAAQS.

Under EPA regulations at 40 CFR 50.16, the 2008 primary and secondary lead standards are met when the maximum arithmetic 3-month mean concentration for a 3-year period, as determined in accordance with 40 CFR part 50, appendix R, is less than or equal to 0.15 μg/m³ at all relevant monitoring sites in the subject area. EPA refers to this maximum rolling three-month average over a three-year period as the “design value.”

40 CFR part 58, appendix A outlines the quality assurance requirements necessary for providing “sufficient information to assess the quality of the monitoring data.” 40 CFR part 58, appendix D provides network design criteria requirements which describe “specific requirements for the number and location of . . . [monitoring] sites for specific pollutants . . .”. Within appendix D, Section 4.5 states that “[a]t a minimum, there must be one source-oriented SLAMS (State and Local Air Monitoring Station) site located to measure the maximum Pb concentration in ambient air resulting from each non-airport Pb source which emits 0.50 or more tons per year. . . .

EPA has reviewed the ambient air monitoring data for the Chicago and Granite City areas in accordance with the provisions of 40 CFR part 50, appendix R, and 40 CFR part 58, appendix A and appendix D. All data considered are complete, quality-assured, certified, and recorded in EPA's Air Quality System (AQS) database.

1. Chicago Area Air Quality

As defined at 40 CFR 81.314, the Chicago area is comprised of the portions of Cook County that are bounded by Damen Avenue on the west, Roosevelt Road on the north, the Dan Ryan Expressway on the east, and the Stevenson Expressway on the south. According to analysis conducted by Illinois EPA in 2011, the H. Kramer & Co. (H. Kramer) facility was capable of causing exceedances of the NAAQS in the absence of any other sources in the area.¹ As described in Illinois EPA's September 22, 2016 submission, after the 2012 shutdown of the Fisk Electric Generating Station, H. Kramer became the only source of lead emissions in the Chicago area. H. Kramer manufactures brass and bronze ingots, and a portion of the facility is devoted to producing metal alloys that often contain lead as a minor constituent.

¹ See the technical support document “Region 5 Final Ionia County, Chicago, Illinois Lead Technical Support Document (TSD)” [sic] attached to EPA's air quality designations published November 22, 2011 (76 FR 72097).

After Illinois EPA identified H. Kramer as capable of causing exceedances of the NAAQS in the Chicago area, Illinois adopted rules that limit emissions from the H. Kramer facility, and require additional control measures. As discussed in detail below, in this action EPA is approving a request from Illinois EPA to incorporate these rules into the Illinois SIP. Since H. Kramer implemented the controls required by these rules, monitored values of lead in the area have been below the health-based standard.

The Cook County Department of Environmental Control in conjunction with Illinois EPA operates two Federal reference method (FRM) source-oriented SLAMS monitors at 1241 W 19th Street in Chicago, Illinois, which are used to determine whether the Chicago area has attained the 2008 lead NAAQS. In the AQS database, this monitoring site is denoted with site ID 17-031-0110 and the two monitors are denoted with parameter occurrence code (POC) #1 and POC #9. In a rulemaking on August 24, 2015 (80 FR 51127), EPA determined that the Chicago area was attaining the 2008 lead NAAQS, with a design value of 0.05 μg/m³ for the three-year period of 2012-2014. EPA is affirming that determination today with monitoring data from the most recent three-year period of 2014-2016 based on data from the SLAMS monitors identified above.

² In Tables 1 through 4, the three-month rolling average for the first two periods in 2014, November through January and December through February, includes monitoring data from November and December of 2013.

Table 1—2014-2016 Three-Month Rolling Averages for the 17-031-0110 #1 Monitor, in Units of μg/m³
Location | AQS ID | 3-month period | 2014 | 2015 | 2016
1241 W 19th St., Chicago, IL | 17-031-0110 #1 | Nov-Jan ² | 0.01 | 0.03 | 0.01
|  | Dec-Feb | 0.01 | 0.01 | 0.01
|  | Jan-Mar | 0.02 | 0.01 | 0.01
|  | Feb-Apr | 0.02 | 0.02 | 0.01
|  | Mar-May | 0.02 | 0.02 | 0.01
|  | Apr-Jun | 0.02 | 0.02 | 0.01
|  | May-July | 0.02 | 0.01 | 0.01
|  | Jun-Aug | 0.02 | 0.01 | 0.01
|  | July-Sept | 0.02 | 0.01 | 0.01
|  | Aug-Oct | 0.02 | 0.01 | 0.01
|  | Sept-Nov | 0.04 | 0.01 | 0.01
|  | Oct-Dec | 0.03 | 0.01 | 0.01

Table 2—2014-2016 Three-Month Rolling Averages for the 17-031-0110 #9 Monitor, in Units of μg/m³
Location | AQS ID | 3-month period | 2014 | 2015 | 2016
1241 W 19th St., Chicago, IL | 17-031-0110 #9 | Nov-Jan | 0.01 | 0.01 | 0.01
|  | Dec-Feb | 0.01 | 0.01 | 0.01
|  | Jan-Mar | 0.02 | 0.01 | 0.01
|  | Feb-Apr | 0.02 | 0.02 | 0.01
|  | Mar-May | 0.02 | 0.02 | 0.01
|  | Apr-Jun | 0.02 | 0.02 | 0.01
|  | May-July | 0.02 | 0.01 | 0.01
|  | Jun-Aug | 0.02 | 0.01 | 0.01
|  | July-Sept | 0.03 | 0.01 | 0.01
|  | Aug-Oct | 0.02 | 0.01 | 0.01
|  | Sept-Nov | 0.02 | 0.01 | 0.01
|  | Oct-Dec | 0.02 | 0.01 | 0.01

The data shown in Tables 1 and 2 are complete, quality-assured, and certified and show 0.04 μg/m³ as the highest three-month rolling average, well below the standard of 0.15 μg/m³. The September 22, 2016, submittal from Illinois EPA requested redesignation to attainment based on data from the three-year period of 2013-2015, which showed that the Chicago area was meeting the 2008 lead NAAQS with a design value of 0.04 μg/m³. In this action, EPA is redesignating the Chicago area based on more recent monitoring data for the three-year period of 2014-2016, which also has a design value of 0.04 μg/m³.

EPA's review of this data indicates that the Chicago area has attained and should continue to attain the 2008 lead NAAQS.

2. Granite City Area Air Quality

As defined at 40 CFR 81.314, the Granite City area is comprised of the portions of Madison County that are bounded by Granite City Township and Venice Township. According to initial analysis conducted by Illinois EPA in 2010, the Mayco Industries LLC (Mayco) facility was one of several sources with lead emissions in the Granite City nonattainment area.³ As described in its September 22, 2016, submission, Illinois EPA conducted further analysis and determined that Mayco was the most significant source of lead emissions in the Granite City area, and was capable of causing exceedances of the NAAQS in the absence of any other sources in the area. Mayco is a secondary lead production facility and a fabricator of several lead-containing products. Mayco manufactures lead shot for ammunition, lead-containing products for naval applications, and lead wool used to create flexible materials for radiation protection.

³ See the technical support document “Region 5—Final Granite City, Illinois Technical Support Document For 1st Round of Lead Designations” attached to EPA's air quality designations published November 22, 2010 (75 FR 71033).

After Illinois EPA identified Mayco as the primary contributor to the exceedance of the NAAQS in the Granite City area, Illinois adopted rules that limit emissions from the Mayco facility, and require additional control measures. As discussed in detail below, in this action EPA is approving a request from Illinois EPA to incorporate these rules into the Illinois SIP. Since Mayco implemented the controls required by these rules, monitored values of lead in the area have been below the health-based standard.

Illinois EPA operates two FRM source-oriented SLAMS monitors at 15th Street and Madison Avenue in Granite City, Illinois, which are used to determine whether the Granite City area has attained the 2008 lead NAAQS. In the AQS database, this monitoring site is denoted with site ID 17-119-0010 and the two monitors are denoted with POC #1 and POC #9.

Table 3—2014-2016 Three-Month Rolling Averages for the 17-119-0010 #1 Monitor, in Units of μg/m³
Location | AQS ID | 3-month period | 2014 | 2015 | 2016
15th St. and Madison Ave., Granite City, IL | 17-119-0010 #1 | Nov-Jan | 0.04 | 0.02 | 0.01
|  | Dec-Feb | 0.04 | 0.02 | 0.01
|  | Jan-Mar | 0.03 | 0.02 | 0.01
|  | Feb-Apr | 0.01 | 0.01 | 0.02
|  | Mar-May | 0.02 | 0.02 | 0.02
|  | Apr-Jun | 0.01 | 0.02 | 0.02
|  | May-July | 0.01 | 0.01 | 0.02
|  | Jun-Aug | 0.01 | 0.01 | 0.01
|  | July-Sept | 0.01 | 0.01 | 0.01
|  | Aug-Oct | 0.01 | 0.02 | 0.01
|  | Sept-Nov | 0.02 | 0.02 | 0.02
|  | Oct-Dec | 0.01 | 0.01 | 0.02

Table 4—2014-2016 Three-Month Rolling Averages for the 17-119-0010 #9 Monitor, in Units of μg/m³
Location | AQS ID | 3-month period | 2014 | 2015 | 2016
15th St. and Madison Ave., Granite City, IL | 17-119-0010 #9 | Nov-Jan | 0.04 | 0.01 | 0.01
|  | Dec-Feb | 0.03 | 0.01 | 0.01
|  | Jan-Mar | 0.03 | 0.02 | 0.01
|  | Feb-Apr | 0.01 | 0.02 | 0.01
|  | Mar-May | 0.02 | 0.02 | 0.01
|  | Apr-Jun | 0.01 | 0.02 | 0.01
|  | May-July | 0.01 | 0.02 | 0.01
|  | Jun-Aug | 0.01 | 0.01 | 0.01
|  | July-Sept | 0.01 | 0.01 | 0.01
|  | Aug-Oct | 0.01 | 0.02 | 0.01
|  | Sept-Nov | 0.02 | 0.02 | 0.01
|  | Oct-Dec | 0.01 | 0.02 | 0.02

The data shown in Tables 3 and 4 are complete, quality-assured, and certified and show 0.04 μg/m³ as the highest three-month rolling average, well below the standard of 0.15 μg/m³. The September 22, 2016, submittal from Illinois EPA requested redesignation to attainment based on data for the three-year period of 2013-2015, which showed that the Granite City area was meeting the 2008 lead NAAQS with a design value of 0.06 μg/m³. In this action, EPA is redesignating the Granite City area based on the more recent monitoring data for the three-year period of 2014-2016, which has a lower design value of 0.04 μg/m³.

EPA's review of this data indicates that the Granite City area has attained and should continue to attain the 2008 lead NAAQS.

B. EPA Has Fully Approved the Applicable SIP for the Areas Under Section 110(k) and the Areas Have Met All Applicable Requirements Under Section 110 and Part D (Section 107(d)(3)(E)(ii) and (v))

With the exception of the emissions inventory requirement under section 172(c)(3), EPA has approved all applicable requirements of the Illinois SIP for the areas under Section 110(k) (EPA action on plan submissions), in accordance with section 107(d)(3)(E)(ii). As discussed below, EPA is approving Illinois' 2012 emissions inventory as meeting the section 172(c)(3) comprehensive emissions inventory requirement as part of this action.

Additionally, the Illinois SIP meets all currently applicable SIP requirements for purposes of redesignation of the Chicago and Granite City areas under section 110 of the CAA (general SIP requirements), and Illinois' submittal meets all SIP requirements applicable under part D of the CAA (plan requirements for nonattainment areas in general), in accordance with section 107(d)(3)(E)(v).

1. Illinois Has Met All Applicable Requirements for Purposes of Redesignation of the Chicago and Granite City Areas Under Section 110 and Part D of the CAA

a. Section 110 General SIP Requirements

Section 110(a) of title I of the CAA contains the general requirements for a SIP. Section 110(a)(2) provides that the implementation plan submitted by a state must have been adopted by the state after reasonable public notice and hearing, and, among other things, must: Include enforceable emission limitations and other control measures, means or techniques necessary to meet the requirements of the CAA; provide for establishment and operation of appropriate devices, methods, systems, and procedures necessary to monitor ambient air quality; provide for implementation of a source permit program to regulate the modification and construction of any stationary source within the areas covered by the plan; include provisions for the implementation of part C, Prevention of Significant Deterioration (PSD) and part D, New Source Review (NSR) permit programs; include criteria for stationary source emission control measures, monitoring, and reporting; include provisions for air quality modeling; and provide for public and local agency participation in planning and emission control rule development. EPA has historically referred to SIP submissions made for the purpose of satisfying the requirements of CAA section 110(a)(2) as “infrastructure SIP” submissions.

Additionally, section 110(a)(2)(D) of the CAA requires that SIPs contain measures to prevent sources in a state from significantly contributing to air quality problems in another state. EPA has historically referred to SIP submissions made for the purpose of satisfying the requirements of CAA section 110(a)(2)(D) as “transport SIP” submissions.

EPA interprets the “applicable” requirements for an area's designation to be those requirements linked with a particular area's nonattainment designation. Therefore, the section 110 elements described above that are not connected with nonattainment plan submissions and not linked with an area's attainment status, such as the infrastructure SIP elements of section 110(a)(2) and transport SIP submittal requirements under section 110(a)(2)(D), are not applicable requirements for purposes of redesignation. This is because a state remains subject to these requirements after an area is redesignated to attainment, and therefore these requirements are not relevant in evaluating a redesignation request.

EPA has applied this interpretation consistently in many redesignations for decades. See 81 FR 44210 (July 7, 2016) (final redesignation for the Sullivan County, Tennessee area); 79 FR 43655 (July 28, 2014) (final redesignation for Bellefontaine, Ohio lead nonattainment area); 61 FR 53174-53176 (October 10, 1996) and 62 FR 24826 (May 7, 1997) (proposed and final redesignation for Reading, Pennsylvania ozone nonattainment area); 61 FR 20458 (May 7, 1996) (final redesignation for Cleveland-Akron-Lorain, Ohio ozone nonattainment area); and 60 FR 62748 (December 7, 1995) (final redesignation of Tampa, Florida ozone nonattainment area). See also 65 FR 37879, 37890 (June 19, 2000) (discussing this issue in final redesignation of Cincinnati, Ohio 1-hour ozone nonattainment area); 66 FR 53094 (October 19, 2001) (final redesignation of Pittsburgh, Pennsylvania 1-hour ozone nonattainment area).

We have reviewed the Illinois SIP and determined that it meets the general SIP requirements under section 110 of the CAA to the extent those requirements are applicable for purposes of redesignation. EPA has previously approved provisions of Illinois' SIP addressing section 110 requirements (including provisions addressing lead) at 40 CFR 52.745.

b. Part D Requirements

Upon approval of Illinois' 2012 emissions inventory for each area, the Illinois SIP will meet the nonattainment area requirements for the Chicago and Granite City areas for purposes of redesignation under part D of the CAA, including the requirements under sections 172 and 176, which are discussed further below.

(i) Section 172 Nonattainment Plan Requirements

For purposes of evaluating this redesignation request, the applicable SIP requirements of section 172 are contained in sections 172(c)(1) through (9), which address requirements for nonattainment areas. A thorough discussion of the requirements contained in section 172 can be found in the General Preamble for Implementation of Title I (57 FR 13498, April 16, 1992).

Section 172(c)(1) requires nonattainment plans to provide for the implementation of all reasonably available control measures (RACM) as expeditiously as practicable and to provide for attainment of the primary NAAQS. EPA interprets this requirement to impose a duty on all states to consider all available control measures for all nonattainment areas and to adopt and implement such measures as are reasonably available for implementation in each area as components of the area's attainment demonstration. Because the Chicago and Granite City areas have attained the 2008 lead NAAQS, Illinois does not need to address additional measures to provide for attainment, and the requirements under section 172(c)(1) are no longer considered to be applicable so long as the area continues to attain the standard until redesignation. (40 CFR 51.918).

Section 172(c)(2) provides that nonattainment plans must require reasonable further progress (RFP), which is defined as progress that must be made toward attainment. This requirement is not relevant for purposes of the Chicago and Granite City redesignations because the areas have monitored attainment of the 2008 lead NAAQS. (General Preamble, 57 FR 13564). See also 40 CFR 51.918. The requirement to submit contingency measures under section 172(c)(9) is similarly not applicable for purposes of redesignation. Id.

Section 172(c)(3) requires submission and approval of a comprehensive, accurate and current inventory of actual emissions. In their redesignation request, Illinois submitted inventories of actual lead emissions in 2012 for each source in the Chicago and Granite City areas that may have contributed to an exceedance of the NAAQS. At 40 CFR 51.117, EPA provides a threshold at which lead emissions must be included in an inventory; as shown in Illinois' submittal, no other source in either area emits at or above the threshold level of 0.5 or more tons of lead per year. EPA is approving the 2012 inventories, summarized in Table 5 below, as meeting the section 172(c)(3) emissions inventory requirement for the Chicago and Granite City areas.

Table 5—Actual Emissions Inventories for the Chicago and Granite City Areas in 2012
| Lead emissions (lbs/year)
H. Kramer facility in Chicago area | 200
Mayco facility in Granite City area | 903

Section 172(c)(4) requires nonattainment plans to identify and quantify allowable emissions for major new and modified stationary sources in an area, and section 172(c)(5) requires source permits for the construction and operation of new and modified major stationary sources anywhere in the nonattainment area. EPA approved Illinois' current NSR program as meeting the requirements of section 172(c)(4) and 172(c)(5) on May 13, 2003 (68 FR 25504).

Section 172(c)(6) requires nonattainment plans to include enforceable emission limitations, and such other control measures, means or techniques as may be necessary or appropriate to provide for attainment of the standard. Because the areas have reached attainment has been reached, no additional measures are needed to provide for attainment.

Section 172(c)(7) requires nonattainment plans to meet the applicable provisions of section 110(a)(2). As discussed above, the Illinois SIP meets the applicable provisions of section 110(a)(2) for purposes of redesignation.

Section 172(c)(8) allows for equivalent modeling, emission inventory, and planning procedures in certain circumstances upon application by the State, which is not applicable to this action.

(ii) Section 176 Conformity Requirements

Section 176(c) of the CAA requires states to establish criteria and procedures to ensure that Federally-supported or funded activities, including highway and transit projects, conform to the air quality planning goals in the applicable SIPs. The requirement to determine conformity applies to transportation plans, programs and projects developed, funded or approved under title 23 of the U.S. Code and the Federal Transit Act (transportation conformity) as well as to all other Federally-supported or funded projects (general conformity). In light of the elimination of lead additives in gasoline, transportation conformity does not apply to the lead NAAQS. See 73 FR 66964, 67043 n.120. In addition, EPA approved Illinois' general conformity SIP on December 23, 1997 (62 FR 6700).

2. Illinois Has a Fully Approved Applicable SIP Under Section 110(k) of the CAA

Upon final approval of Illinois' comprehensive 2012 emissions inventories, EPA will have fully approved the Illinois SIP for the Chicago and Granite City areas under section 110(k) of the CAA for all requirements applicable to the attainment status of the areas. EPA may rely on prior SIP approvals in approving a redesignation request (See page 3 of the September 4, 1992, Processing Requests to Redesignate Areas to Attainment: Policy Memorandum ⁴ (Calcagni memorandum)); Southwestern Pennsylvania Growth Alliance v. Browner, 144 F.3d 984, 989-990 (6th Cir. 1998); Wall v. EPA, 265 F.3d 426 (6th Cir. 2001)) plus any additional measures EPA may approve in conjunction with a redesignation action. See 68 FR 25413, 25426 (May 12, 2003). Since the passage of the CAA of 1970, Illinois has adopted and submitted, and EPA has fully approved, provisions addressing various required SIP elements under lead standards.

⁴ https://www.epa.gov/ozone-pollution/procedures-processing-requests-redesignate-areas-attainment.

Under section 172, states with nonattainment areas must submit plans providing for timely attainment and meeting a variety of other requirements. EPA made a final determination of attainment for the Chicago area (also known as a clean data determination) on August 24, 2015 (80 FR 51127). Pursuant to 40 CFR 51.1004(c), EPA's determination that the area has attained the 2008 lead standard suspended the requirement to submit certain planning SIPs related to attainment, including attainment demonstration requirements, the RACM requirements of 172(c)(3), the RFP and attainment demonstration requirements of sections 172(c)(2) and (6) and 182(b)(1) of the CAA, and the requirement for contingency measures under section 172(c)(9) of the CAA. As discussed above, since EPA's final determination of attainment in 2015, the Chicago area has continued to attain the standard and should remain in attainment. Because in today's rulemaking we are determining that the Granite City area has also attained the standard, EPA is suspending those same requirements under section 172 and 182(b)(1) of the CAA for the Granite City area.

As a result, the only remaining requirement under section 172 to be evaluated is the emissions inventory required under section 172(c)(3). In this action, EPA is approving Illinois' 2012 emissions inventories for the Chicago and Granite City areas as meeting the requirement of section 172(c)(3) of the CAA. No Chicago area or Granite City area SIP provisions regarding lead under Section 172 of the CAA are currently disapproved, conditionally approved, or partially approved.

C. The Improvement in Air Quality Is Due to Permanent and Enforceable Reductions in Emissions Resulting From Implementation of the SIP and Applicable Federal Air Pollution Control Regulations and Other Permanent and Enforceable Reductions (Section 107(d)(3)(E)(iii))

As part of this action, EPA is approving Illinois EPA's request to modify the Illinois SIP to include the requirements at 35 Ill. Adm. Code Part 226. As discussed below, the rules at 35 Ill. Adm. Code Part 226 place new control requirements and emission limits on lead sources in the Chicago and Granite City areas, and are more stringent than the previous SIP-approved rules. Inclusion of these rules into the SIP means that these requirements are permanent and enforceable.

In developing the proposed SIP revisions, Illinois EPA assessed the practices and processes at the H. Kramer and Mayco facilities that contributed to exceedances of the NAAQS in the Chicago area and Granite City area, respectively. Illinois determined that emissions from the stacks at each facility were not appropriately limited, and that certain parts of the Mayco manufacturing process were not controlled at all. Illinois also determined that fugitive emissions from each facility were a significant factor in the exceedances of the NAAQS, and were caused by a lack of proper enclosure under negative pressure, as well as insufficient housekeeping and cleaning procedures. Illinois structured its new rule to address the specific deficiencies at the H. Kramer and Mayco facilities that contributed to the exceedances of the lead NAAQS.

35 Ill. Adm. Code Part 226, titled “Standards and Limitations for Certain Sources of Lead”, which became effective at the state level on April 21, 2014, applies to nonferrous metal production facilities in the Chicago and Granite City areas. In practice, the rule applies to the H. Kramer and Mayco facilities, which are the only two nonferrous metal production facilities in the areas. The rule provides lead emission standards and requires specific emission controls based on the equipment and manufacturing processes that are used at each facility; requires affected sources to operate under specified state or federal permitting programs; requires that owners or operators of lead emission units install, maintain, and operate monitoring equipment; sets requirements for recording and submitting monitoring data; requires that subject owners or operators operate pressure differential and leak detection systems at all times; requires total enclosure of specified lead emission units when the unit is operating or housekeeping activities are being performed; provides options for measurement of all natural draft openings and the total surface area of the total enclosure; requires inward flow of air through all natural draft openings; requires monthly inspections; requires the owner or operator of a lead emission unit to operate a fugitive dust operating program, and specifies areas, activities, and events subject to this program; provides specific emissions testing requirements; includes specific recordkeeping and reporting requirements, including a requirement to submit semiannual reports to Illinois EPA; and states that records must be maintained for at least five years.

In its September 22, 2016, submission, Illinois EPA showed that the implementation of the requirements of 35 Ill. Adm. Code Part 226 has resulted in a substantial decrease in emissions from the H. Kramer and Mayco facilities. As part of its analysis of these areas, Illinois EPA determined emissions prior to the April 21, 2014, effective date of 35 Ill. Adm. Code Part 226 at each facility based on stack testing. For 2012, the H. Kramer facility reported 200 lbs of emissions, and the Mayco facility reported 903 lbs of emissions. Illinois then conducted modeling to calculate allowable emissions from each facility under 35 Ill. Adm. Code Part 226 for 2014 and future years. Illinois determined that H. Kramer should emit no more than 99.9889 lbs/year, and Mayco should emit no more than 418.2620 lbs/year. This modeling is discussed in detail below. As shown in Table 6, Illinois' modeling shows that the emissions reductions correlate with a decrease in monitored ambient lead levels.

Table 6—Emissions Reductions and Improvements in Air Quality for the
Nonattainment and Attainment Periods
| 2012 Actual lead emissions (lbs/year) | Nonattainment design value (μg/m³) ⁵ | 2014 Allowable lead emissions (lbs/year) | 2014-2016 Attainment design value (μg/m³)
H. Kramer facility in Chicago area | 200 | 0.24 | 99.9889 | 0.04
Mayco facility in Granite City area | 903 | 0.28 | 418.2620 | 0.04

Based on the information provided in its submission, Illinois has demonstrated that the observed air quality improvements in the Chicago and Granite City areas are due to the requirements at 35 Ill. Adm. Code Part 226. Relative to emissions in 2012, Illinois' analysis shows that these requirements result in emission reductions of at least 50% from both H. Kramer in the Chicago area and Mayco in the Granite City area. Furthermore, Illinois believes these emission reduction estimates are conservative because the reductions were calculated based on allowable emissions under the rule, and actual emissions are likely to be lower.⁶

⁵ The Chicago area was designated nonattainment using the design value for the 2008-2010 period, and the Granite City area was designated nonattainment using the design value for the 2007-2009 period.

⁶ For a source's actual emissions to be equivalent to its allowable emissions, the source would need to operate every emission unit at maximum capacity continuously throughout the year.

D. Illinois Has a Fully Approved Maintenance Plan Pursuant to Section 175A of the CAA (Section 107(d)(3)(E)(iv))

In conjunction with Illinois' request to redesignate the Chicago and Granite City nonattainment areas to attainment status, Illinois has submitted, as a SIP revision, a plan to provide for maintenance of the 2008 lead NAAQS in the areas through 2030. EPA has reviewed the maintenance plan and finds that it meets the requirements of section 175A of the CAA as explained further below.

Section 175A of the CAA sets forth the required elements of a maintenance plan for areas seeking redesignation from nonattainment to attainment. Under section 175A, the plan must demonstrate continued attainment of the applicable NAAQS for at least ten years after EPA approves a redesignation to attainment. Eight years after redesignation, the state must submit a revised maintenance plan which demonstrates that attainment will continue to be maintained for ten years following the initial ten-year maintenance period. To address the possibility of future NAAQS violations, the maintenance plan must contain contingency measures with a schedule for implementation as EPA deems necessary to assure prompt correction of any future NAAQS violations.

EPA's September 4, 1992, Calcagni memorandum provides additional guidance on the content of a maintenance plan. The memorandum states that a maintenance plan should address the following items: The attainment emissions inventory, a maintenance demonstration showing maintenance for the ten years of the maintenance period, a commitment to maintain the existing monitoring network, factors and procedures to be used for verification of continued attainment of the NAAQS, and a contingency plan to prevent or correct future violations of the NAAQS.

Section 175A requires a state seeking redesignation to attainment to submit a SIP revision to provide for the maintenance of the NAAQS in the area “for at least 10 years after the redesignation.” EPA has interpreted this as a showing of maintenance “for a period of ten years following redesignation.” Calcagni memorandum at 9. Where the modeling method of showing maintenance is used, a state must show that “the future mix of sources and emission rates will not cause a violation of the NAAQS.” Id. Modeling should “contain a summary of the air quality concentrations expected to result from application of the control strategy” and “identify and describe the dispersion model or other air quality model used to project ambient concentrations.” Id.

1. Attainment Inventory

Illinois developed emissions inventories for lead for 2014, one of the years in the period during which the Chicago and Granite City areas monitored attainment of the 2008 lead standard. Illinois EPA calculated this inventory for the H. Kramer and Mayco facilities based on allowable emissions considering the emission limits and control requirements under 35 Ill. Adm. Code Part 226, and requested that the resulting emissions totals be used to satisfy the maintenance plan requirements of section 175A. This approach is consistent with the modeling that Illinois conducted to show that future emissions of lead will not cause a violation of the NAAQS.

These allowable emissions levels for the 2014 attainment year, summarized in Table 7 below, satisfy the pertinent maintenance plan requirements of section 175A.

Table 7—Allowable Emissions Inventories for the Chicago and Granite City Areas in the 2014 Attainment Year
| Lead emissions (lbs/year)
H. Kramer facility in Chicago area | 99.9889
Mayco facility in Granite City area | 418.2620

2. Demonstration of Maintenance

Illinois' plan demonstrates maintenance of the 2008 lead standard through 2030 by showing modeled attainment of the standard for projected future emissions, even at the highest levels of emissions allowed by the new rules at 35 Ill. Adm. Code Part 226, which are discussed in detail above.

As clarified by Illinois EPA on February 16, 2017, the Illinois maintenance plan demonstrates how the projected level of emissions from affected sources is sufficient to permanently maintain the lead NAAQS. The maintenance plan relies on a January 9, 2014, submission of emissions inventories and modeling data, as well as a June 17, 2014, submission requesting that EPA add 35 Ill. Adm. Code Part 226 into the Illinois SIP. Illinois EPA modeling shows that these rules, once approved as part of the SIP, should permanently limit emissions to a level at which the 2008 lead NAAQS is maintained for ten years and beyond in the Chicago and Granite City areas.

Illinois EPA conducted this modeling for both areas using EPA's dispersion model, AERMOD, as required at 40 CFR part 51, appendix W. Model output was processed using EPA's LEADPOST software. In undertaking this modeling, Illinois followed relevant EPA guidance, and appropriately considered meteorology, terrain, and stack height.

Based on monitoring data and estimated emissions from nearby sources, the modeling assumes a background lead concentration of 0.02 μg/m³ for both the Chicago and Granite City areas. This assumption is conservative because the most recent monitoring data for the Chicago and Granite City areas show total ambient lead concentrations near this value. The modeling then applies the new rules at 35 Ill. Adm. Code Part 226 to the affected sources in each area, and calculates maximum allowable emissions from these sources. Adding the background concentration to the maximum allowable emissions, Illinois EPA's modeling shows that the maximum three-month rolling average of lead is 0.128253 μg/m³ for the Chicago area and 0.128333 μg/m³ for the Granite City area, which are within the 2008 lead NAAQS standard of 0.15 μg/m³. Because this would be the maximum level of lead emissions allowed under permanent and enforceable SIP-approved rules, Illinois EPA has shown an ability to maintain the NAAQS for ten years and beyond.

3. Monitoring Network

Illinois currently operates lead monitors in the Chicago and Granite City area. Illinois' maintenance plan includes a commitment to continue to operate its EPA-approved monitoring network as necessary to demonstrate ongoing compliance with the NAAQS.

4. Verification of Continued Attainment

Illinois remains obligated to continue to quality-assure monitoring data and enter all data into AQS in accordance with Federal guidelines. Illinois has committed to using these data, supplemented with additional information as necessary, to assure that the area continues to attain the standard. Illinois will also continue to develop and submit periodic emission inventories as required by the Federal Consolidated Emissions Reporting Rule (67 FR 39602, June 10, 2002) to track future levels of emissions. Both of these actions will help to verify continued attainment in accordance with 40 CFR part 58.

5. Contingency Plan

The contingency plan provisions are designed to promptly correct or prevent a violation of the NAAQS that might occur after redesignation of an area to attainment. Section 175A of the CAA requires that a maintenance plan include such contingency measures as EPA deems necessary to assure that the state will promptly correct a violation of the NAAQS that occurs after redesignation. The maintenance plan should identify the contingency measures to be adopted, a schedule and procedure for adoption and implementation of the contingency measures, and a time limit for action by the state. The state should also identify specific indicators to be used to determine when the contingency measures need to be adopted and implemented. The maintenance plan must include a requirement that the state will implement all pollution control measures that were contained in the SIP before redesignation of the area to attainment. See section 175A(d) of the CAA.

Illinois' contingency plan is triggered when there is a violation of the lead NAAQS occurring after redesignation to attainment. Within six months of certification of monitoring data showing an exceedance of the NAAQS, Illinois will complete a comprehensive study to determine the cause or causes of the violation, and the control measure or measures necessary to mitigate the problem. This study will consider the number, location, and severity of the violations; the weather patterns contributing to high concentrations of lead; contributing emissions sources; emissions trends, including timeliness of implementation of scheduled control measures; current and recently-identified control technologies; and air quality contributions from outside the maintenance area.

If the study shows that additional controls of sources within the area is appropriate, the Illinois contingency plan is to incrementally lower emission limits and implement associated measures at the unit or units that are shown to be the cause or causes of the NAAQS violation. The selection of measures will be based upon several factors, including emissions reduction potential, timing of implementation, and social considerations. Illinois EPA will solicit input from interested and affected parties prior to selecting the appropriate measures. The process will include publication for notices, an opportunity for public hearing, and other actions required by Illinois law.

Illinois' contingency measures, as well as the commitment to implement SIP requirements as necessary, satisfy the pertinent requirements of section 175A(d).

As required by section 175A(b) of the CAA, Illinois committed to submit to EPA an updated lead maintenance plan eight years after redesignation of the Chicago and Granite City areas to cover an additional ten-year period beyond the initial ten-year maintenance period.

For the reasons set forth above, EPA is approving, as a SIP revision, Illinois' 2008 lead NAAQS maintenance plan for the Chicago and Granite City areas because the plan meets the requirements of CAA section 175A.

V. What are the effects of EPA's actions?

Approval of this redesignation request changes the official designation of the Chicago, Illinois and Granite City, Illinois areas for the 2008 lead NAAQS, found at 40 CFR part 81, from nonattainment to attainment. This action also approves, as revisions to the Illinois SIP, the rules at 35 Ill. Adm. Code Part 226, the maintenance plan for the 2008 lead standard in the Chicago and Granite City areas, and Illinois' 2012 emissions inventories for the Chicago and Granite City areas pursuant to section 172(c)(3) of the CAA.

As discussed above, section 172(c)(3) of the CAA requires areas to submit a comprehensive emissions inventory including all lead sources in the nonattainment area. EPA is approving the Illinois 2012 emissions inventories outlined in Table 5 for the Chicago and Granite City areas as fulfilling this requirement.

In its September 22, 2016, submission, Illinois EPA requested that EPA approve 35 Ill. Adm. Code Part 226 as a revision to the Illinois SIP as control measures to maintain attainment in the Chicago and Granite City areas. As discussed above, these rules control emissions from lead sources, specifically at the H. Kramer and Mayco facilities, and inclusion of these rules into the SIP makes these measures permanent and enforceable. In today's action, EPA is approving Illinois' request to modify the SIP to include these rules.

We are publishing this action without prior proposal because we view this as a noncontroversial amendment and anticipate no adverse comments. However, in the proposed rules section of this Federal Register publication, we are publishing a separate document that will serve as the proposal to approve the state plan if relevant adverse written comments are filed. This rule will be effective December 18, 2017 without further notice unless we receive relevant adverse written comments by November 17, 2017. If we receive such comments, we will withdraw this action before the effective date by publishing a subsequent document that will withdraw the final action. All public comments received will then be addressed in a subsequent final rule based on the proposed action. EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective December 18, 2017.

VI. Incorporation by Reference

In this rule, EPA is finalizing regulatory text that includes incorporation by reference. In accordance with requirements of 1 CFR 51.5, EPA is finalizing the incorporation by reference of the Illinois Regulations described in the amendments to 40 CFR part 52 set forth below. EPA has made, and will continue to make, these documents generally available through www.regulations.gov, and/or at the EPA Region 5 Office (please contact the person identified in the FOR FURTHER INFORMATION CONTACT section of this preamble for more information). Therefore, these materials have been approved by EPA for inclusion in the State implementation plan, have been incorporated by reference by EPA into that plan, are fully federally enforceable under sections 110 and 113 of the CAA as of the effective date of the final rulemaking of EPA's approval, and will be incorporated by reference by the Director of the Federal Register in the next update to the SIP compilation

VII. Statutory and Executive Order Reviews

Under the CAA, redesignation of an area to attainment and the accompanying approval of a maintenance plan under section 107(d)(3)(E) are actions that affect the status of a geographical area and do not impose any additional regulatory requirements on sources beyond those imposed by state law. A redesignation to attainment does not in and of itself create any new requirements, but rather results in the applicability of requirements contained in the CAA for areas that have been redesignated to attainment. Moreover, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications as specified by Executive Order 13175 (65 FR 67249, November 9, 2000), because redesignation is an action that affects the status of a geographical area and does not impose any new regulatory requirements on tribes, impact any existing sources of air pollution on tribal lands, nor impair the maintenance of ozone national ambient air quality standards in tribal lands.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 18, 2017. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects

40 CFR Part 52

Environmental protection, Air pollution control, Incorporation by reference, Intergovernmental relations, Lead, Reporting and recordkeeping requirements.

40 CFR Part 81

Environmental protection, Air pollution control, National parks, Wilderness areas.

Dated: September 28, 2017.
Robert A. Kaplan,
Acting Regional Administrator, Region 5.

40 CFR parts 52 and 81 are amended as follows:

PART 52—APPROVAL AND PROMULGATION OF IMPLEMENTATION PLANS

1. The authority citation for part 52 continues to read as follows:

Authority: 42 U.S.C. 7401 et seq.

2. In § 52.720 the tables in paragraph (c) and (e) are amended:

i. In paragraph (c) under the subheading “Subchapter c: Emission Standards and Limitations for Stationary Sources” by adding entries in numerical order under a new subheading “Part 226: Standards And Limitations For Certain Sources Of Lead”;

ii. in paragraph (e) under the subheading “Attainment and Maintenance Plans” by adding new entries in alphabetical order for “Lead (2008) attainment and maintenance plan” and “Lead (2008)—Clean Data Determination”; and

iii. in paragraph (e) under the subheading “Emission Inventories” by adding a new entry in alphabetical order for “Emission inventory -2012 (2008 Lead)”.

The additions read as follows:

§ 52.720 Identification of plan.

* * * * *

(c) * * *

EPA-Approved Illinois Regulations And Statutes
Illinois citation | Title/subject | State effective date | EPA approval date | Comments
* * * * * * *
Subchapter C: Emission Standards and Limitations for Stationary Sources
| * * * * * * *
Part 226: Standards and Limitations for Certain Sources of Lead
226.100 | Severability | 4/21/2014 | 10/18/2017, [Insert Federal Register citation]
226.105 | Scope and Organization | 4/21/2014 | 10/18/2017, [Insert Federal Register citation]
226.110 | Abbreviations and Acronyms | 4/21/2014 | 10/18/2017, [Insert Federal Register citation]
226.115 | Definitions | 4/21/2014 | 10/18/2017, [Insert Federal Register citation]
226.120 | Incorporations by Reference | 4/21/2014 | 10/18/2017, [Insert Federal Register citation]
226.125 | Applicability | 4/21/2014 | 10/18/2017, [Insert Federal Register citation]
226.130 | Compliance Date | 4/21/2014 | 10/18/2017, [Insert Federal Register citation]
226.140 | Lead Emission Standards | 4/21/2014 | 10/18/2017, [Insert Federal Register citation]
226.150 | Operational Monitoring for Control Device | 4/21/2014 | 10/18/2017, [Insert Federal Register citation]
226.155 | Total Enclosure | 4/21/2014 | 10/18/2017, [Insert Federal Register citation]
226.160 | Operational Measurement for Total Enclosure | 4/21/2014 | 10/18/2017, [Insert Federal Register citation]
226.165 | Inspection | 4/21/2014 | 10/18/2017, [Insert Federal Register citation]
226.170 | Lead Fugitive Dust Operating Program | 4/21/2014 | 10/18/2017, [Insert Federal Register citation]
226.175 | Emissions Testing | 4/21/2014 | 10/18/2017, [Insert Federal Register citation]
226.185 | Recordkeeping and Reporting | 4/21/2014 | 10/18/2017, [Insert Federal Register citation]
* * * * * * *

* * * * *

(e) * * *

EPA-Approved Illinois Nonregulatory and Quasi-Regulatory Provisions
Name of SIP provision | Applicable geographic or nonattainment area | State submittal date | EPA approval date | Comments
* * * * * * *
Attainment and Maintenance Plans
| * * * * * * *
Lead (2008) attainment and maintenance plan | Chicago and Granite City areas | 9/22/2016 | 10/18/2017, [Insert Federal Register citation]
* * * * * * *
Lead (2008)—Clean Data Determination | Granite City area | N/A | 10/18/2017, [Insert Federal Register citation]
* * * * * * *
Emission Inventories
* * * * * * *
Emission inventory—2012 (2008 Lead) | Chicago and Granite City areas | 9/22/2016 | 10/18/2017, [Insert Federal Register citation]
* * * * * * *

PART 81—DESIGNATION OF AREAS FOR AIR QUALITY PLANNING PURPOSES

3. The authority citation for part 81 continues to read as follows:

Authority: 42 U.S.C. 7401 et seq.

4. Section 81.314 is amended by revising the table entitled “Illinois—2008 Lead NAAQS” to read as follows:

§ 81.314 Illinois.

* * * * *

Illinois—2008 Lead NAAQS
Designated area | Designation for the 2008 NAAQS ᵃ: Date ¹ | Designation for the 2008 NAAQS ᵃ: Type
Chicago, IL:
Cook County (part) | 10/18/2017 | Attainment.
Area bounded by Damen Ave. on the west, Roosevelt Rd. on the north, the Dan Ryan Expressway on the east, and the Stevenson Expressway on the south.
Granite City, IL:
Madison County (part) | 10/18/2017 | Attainment.
Area is bounded by Granite City Township and Venice Township.
Rest of State |  | Unclassifiable/Attainment.
ᵃ Includes Indian Country located in each county or area, except as otherwise specified.
¹ December 31, 2011, unless otherwise noted.

[FR Doc. 2017-22512 Filed 10-17-17; 8:45 am]

BILLING CODE 6560-50-P